DEPARTMENT OF TRANSPORTATION

Federal Highway Administration

Environmental Impact Statement: Bexar County, TX

AGENCY: Federal Highway Administration (FHWA), DOT.

ACTION: Notice of Intent.

SUMMARY: Pursuant to 40 CFR 1508.22 and 43 TAC § 2.5(e)(2), the FHWA, Texas Department of Transportation (TxDOT) and Alamo Regional Mobility Authority are issuing this notice to advise the public that an Environmental Impact Statement (EIS) will be prepared for a proposed transportation project on United States Highway (US) 281 from Loop (LP) 1604 to Borgfeld Road, about 7.5 miles, in Bexar County, Texas. Areas within the city of San Antonio are included in the study area.

FOR FURTHER INFORMATION CONTACT: Mr. Salvador Deocampo, District Engineer, District A, Federal Highway Administration (FHWA), Texas Division, 300 East 8th Street, Rm. 826, Austin, Texas 78701, Telephone 512-536-5950.

SUPPLEMENTARY INFORMATION: US 281 within the project limits is listed in the San Antonio-Bexar County Metropolitan Planning Organization (SA-BCMPO) Mobility 2030 Plan (the long-range transportation plan) as a six-lane tolled facility; other solutions for improving mobility within the US 281 corridor may be identified in future updates and/or amendments to the long-range transportation plan. The existing facility is a four-to-six-lane non-toll divided arterial with partial access controls. The need for improvements to US 281 has resulted from a historic and continuing trend in population and employment growth within the project corridor and surrounding areas. This growth has generated increasing levels of vehicle miles traveled, leading to higher levels of traffic congestion, vehicle crashes, and declining community quality of life. Without additional transportation improvements it is anticipated that this population and employment growth will result in increased levels of vehicular traffic, crashes and travel delays. Without improvements, accessibility within the corridor is anticipated to become increasingly reduced, its functionality as part of a regional transportation system would decline, and the overall community quality of life would diminish. The objectives of US 281 corridor improvements are to improve mobility, enhance safety, and improve community quality of life. The EIS will develop and evaluate a range of alternatives including “No-action” (the no-build alternative), Transportation System Management (TSM)/Transportation Demand Management (TDM), rapid transit and roadway build alternatives.

The EIS will analyze potential direct, indirect and cumulative impacts from construction and operation of proposed corridor improvements including, but not limited to, the following: Transportation impacts; air quality and noise impacts; water quality impacts including storm water runoff; impacts to waters of the United States including wetlands; impacts to floodplains; impacts to historic and archeological resources; impacts to threatened and endangered species; socioeconomic impacts including environmental justice communities; impacts to and/or potential displacements of land use, vegetation, residents and businesses; and impacts to aesthetic and visual resources.

Public involvement is a critical component of the project development process and will occur throughout the planning and study phases. Letters describing the proposed action including a request for comments will be sent to appropriate Federal, State, and local agencies and to private organizations and citizens who have previously expressed or are known to have interest in this proposal. Public scoping meetings are planned for late summer and fall of 2009. The purpose of the public scoping meetings is to identify significant and other relevant issues related to US 281 mobility improvements as part of the National Environmental Policy Act process. The scoping meetings, pursuant to Section 6002 of SAFETEA-LU, will provide opportunities for participating agencies, cooperating agencies, and the public to be involved in review and comment on the draft coordination plan, defining the need and purpose for the proposed project, and determining the range of alternatives to be considered in the EIS. Additional public meetings will be held on dates to be determined at a later time. In addition to the public meetings, a public hearing will be held. Public notice will be given of the time and place of the meetings and hearing.

To ensure that the full range of issues related to this proposed action is addressed and all significant issues are identified, comments and suggestions are invited from all interested parties. Such comments or questions concerning this proposed action should be directed to the FHWA at the address provided above.

(Catalog of Federal Domestic Assistance Program Number 20.205, Highway Planning and Construction. The regulations implementing Executive Order 12372 regarding intergovernmental consultation on Federal programs and activities apply to this program.)

Issued on: July 1, 2009.
Achille Alonzi,
Assistant Division Administrator.

[FR Doc. E9-16150 Filed 7-7-09; 8:45 am]

BILLING CODE 4910-22-P